DEPARTMENT OF THE INTERIOR

National Park Service

36 CFR Part 7

[NPS-NCR-28616; PPNCNAMAS0, PPMPSPD1Z.YM0000]

RIN 1024-AE45

Demonstrations and Special Events on the National Mall and Memorial Parks; Withdrawal

AGENCY: National Park Service; Interior.

ACTION: Proposed rule; withdrawal.

SUMMARY: The National Park Service withdraws the proposed rule that would revise special regulations related to demonstrations and special events at certain national park units in the National Capital Region. The National Park Service no longer intends to prepare a final rule and has terminated the rulemaking process.

DATES: The August 15, 2018 proposed rule (83 FR 40460) is withdrawn as of October 29, 2019.

FOR FURTHER INFORMATION CONTACT: Brian D. Joyner, Chief of Staff, National Park Service, National Mall and Memorial Parks, (202) 245-4468, NAMA_Superintendent@nps.gov.

Rob Wallace,
Assistant Secretary for Fish and Wildlife and Parks.

[FR Doc. 2019-23408 Filed 10-28-19; 8:45 am]

BILLING CODE 4312-52-P